DEPARTMENT OF AGRICULTURE

Forest Service

Notice of New Fee Sites; Federal Lands Recreation Enhancement Act, (Title VIII, Pub. L. 108-447)

AGENCY: Kootenai National Forest, Forest Service, USDA.

ACTION: Notice of New Fee Sites.

SUMMARY: The Kootenai National Forest is proposing to charge fees for the overnight rental of Fairview cabin ($50), Meadow Peak lookout ($40), and Minton Peak lookout ($40). These cabins have not been available for recreation use prior to this date. Rental of other cabins on the Kootenai National Forest have shown that people appreciate and enjoy the availability of historic rental cabins. Funds from the rental will be used for the continued operation and maintenance of these cabins. This fee is only proposed and will be determined upon further analysis and public comment.

DATES: Send any comments about these fee proposals by September 1, 2012, so comments can be compiled, analyzed and shared with a Recreation Resource Advisory Committee. Fairview will become available for recreation rental December 2012, Meadow peak and Minton Peak lookouts will become available for recreation rental June 2013.

ADDRESSES: Forest Supervisor, Kootenai National Forest, 31374 US Highway 2, Libby, MT 59923-3022.

FOR FURTHER INFORMATION CONTACT: Mary Laws, Recreation Fee Coordinator, 406-283-7648

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

The Kootenai National Forest currently has twelve other cabin rentals. These rentals are often fully booked throughout their rental season. A business analysis of the three new cabins has shown that people desire having this sort of recreation experience on the Kootenai National Forest. A market analysis indicates that the $35-80/per night fee is both reasonable and acceptable for this sort of unique recreation experience.

People wanting to rent these cabins will need to do so through the National Recreation Reservation Service, at www.recreation.gov or by calling 1-877-444-6777. The National Recreation Reservation Service charges a $9 fee for reservations.

Dated: June 15, 2012.
Paul Bradford,
Kootenai National Forest Supervisor.

[FR Doc. 2012-17687 Filed 7-19-12; 8:45 am]

BILLING CODE 3410-11-M